NATIONAL SCIENCE FOUNDATION

Special Emphasis Panel in Bioengineering and Environmental Systems; Notice of Meeting

In accordance with the Federal Advisory Committee Act, Pub. L 92-463, as amended, the National Science Foundation announces the following meeting:

Name: Special Emphasis Panel in Bioengineering and Environmental Systems (1189).

Date/Time: June 8-9, 2000; 8 am-5 pm.

Place: Room 120, National Science Foundation, 4201 Wilson Blvd., Arlington, VA.

Type of Meeting: Closed.

Contact Person: Fred G. Heineken, Program, Director, Division of Bioengineering and Environmental Systems, NSF, 4201 Wilson Blvd., Arlington, VA 22230. (703) 306-1318.

Agenda: To review and evaluate proposals as part of the selection process for awards.

Purpose of Meeting: To review and evaluate Biochemical Eng./Biotechnology POWRE + Large proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: May 12, 2000.
Karen J. York,
Committee Management Officer.

[FR Doc. 00-12458 Filed 5-17-00; 8:45 am]

BILLING CODE 7555-01-M